DEPARTMENT OF ENERGY

Federal Energy Regulatory Commission

[Docket Nos. CP06-5-000; CP06-6-000; CP06-7-000]

Empire State Pipeline, Empire Pipeline, Inc.; Notice of Application

November 30, 2005.

Take notice that on October 11, 2005, Empire State Pipeline (Empire State), and Empire Pipeline, Inc. (EPI)(collectively, Applicants), 6363 Main Street, Williamsville, New York 14221, filed with the Federal Energy Regulatory Commission (Commission) an application under section 7(c) of the Natural Gas Act and parts 157 and 284 of the Commission's regulations for: (1) A certificate of public convenience and necessity authorizing the construction, ownership, and operation of existing and new interstate natural gas pipeline, compression and other facilities; (2) a blanket certificate to provide open-access firm and interruptible transportation services; and (3) a blanket certificate to construct, operate, and/or abandon certain eligible facilities, and services related thereto. Empire also requests authorization of the initial rates for transportation service and terms and conditions of service proposed in the pro forma tariff.

Empire State's existing facilities consist of an approximately 157-mile natural gas pipeline running from the U.S./Canada border near Buffalo, New York to near Syracuse, New York, and are currently subject to state jurisdiction. In the Empire Connector Project, the Applicants propose to expand and extend the existing Empire State pipeline from Victor, New York, to a proposed interconnection with the facilities of Millennium Pipeline Company, L.P. in Corning, New York. The expansion facilities will consist of approximately 78 miles of 24-inch diameter pipeline, 20,620 horsepower compressor station, and associated facilities. The Applicants state the proposed facilities will have a design capacity of 250,000 Dth/day in the winter and 221,000 Dth/day in the summer.

The application is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding this application should be directed to David W. Reitz, Attorney for the Applicants, 6363 Main Street, Williamsville, New York 14221; phone (719) 857-7949 or reitzd@natfuel.com.

On September 21, 2004 the Commission staff granted the Applicants' request to utilize the National Environmental Policy Act (NEPA) Pre-Filing Process and assigned Docket No. PF04-16-000 to staff activities involving the Empire Connector Project. Now, as of the filing of this application on October 11, 2005, the NEPA Pre-Filing Process for this project has ended. From this time forward, this proceeding will be conducted in Docket Nos. CP06-5-000, et. al, as noted in the caption of this Notice.

There are two ways to become involved in the Commission's review of this project. First, any person wishing to obtain legal status by becoming a party to the proceedings for this project should, on or before the comment date listed below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of this filing and all subsequent filings made with the Commission and must mail a copy of all filing to the applicant and to every other party in the proceeding. Only parties to the proceeding can ask for court review of Commission orders in the proceeding.

However, other persons do not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to this project provide copies of their protests only to the party or parties directly involved in the protest.

Persons may also wish to comment further only on the environmental review of this project. Environmental commenters will be placed on the Commission's environmental mailing list, will receive copies of environmental documents issued by the Commission, and will be notified of meetings associated with the Commission's environmental review process. Those persons, organizations, and agencies who submitted comments during the NEPA Pre-Filing Process in Docket No. PF04-16-000 are already on the Commission staff's environmental mailing list for the proceeding in the above dockets and may file additional comments on or before the below listed comment date. Environmental commenters will not be required to serve copies of filed documents on all other parties. However, environmental commenters are also not parties to the proceeding and will not receive copies of all documents filed by other parties or non-environmental documents issued by the Commission. Further, they will not have the right to seek court review of any final order by Commission in this proceeding.

The Commission strongly encourages electronic filings of comments, protests, and interventions via the Internet in lieu of paper. See 18 CFR 385.2001(a)(1)(iii) and the instructions on the Commission's Web site (http://www.ferc.gov) under the “e-Filing” link.

Comment Date: January 17, 2006.

Magalie R. Salas,
Secretary.

[FR Doc. E5-6959 Filed 12-6-05; 8:45 am]

BILLING CODE 6717-01-P